DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place, NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specific vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2025, through August 31, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Stephanie Rojas on behalf of E.R., Miami, Florida, Court of Federal Claims No: 25-1266V

2. Sheri Gonthier, Westfield, Massachusetts, Court of Federal Claims No: 25-1267V

3. Rose Tyler, Chicago, Illinois, Court of Federal Claims No: 25-1269V

4. Keenan Massey, Mooresville, Indiana, Court of Federal Claims No: 25-1270V

5. Randy Hagerman on behalf of E.H., Tampa, Florida, Court of Federal Claims No: 25-1271V

6. Kevin Enderle, Philadelphia, Pennsylvania, Court of Federal Claims No: 25-1272V

7. Barry Richardson, Washington, DC, Court of Federal Claims No: 25-1273V

8. Julie Hennings, Washington, DC, Court of Federal Claims No: 25-1274V

9. Susan Cleveland, Brattleboro, Vermont, Court of Federal Claims No: 25-1275V

10. Morris G. Caple, Parkville, Maryland, Court of Federal Claims No: 25-1279V

11. Tyler K. Huttenlocher, Richmond, Virginia, Court of Federal Claims No: 25-1280V

12. Jayne M. Wentworth, Oneida, New York, Court of Federal Claims No: 25-1281V

13. James Hembree, Seneca, South Carolina, Court of Federal Claims No: 25-1282V

14. Sharon Varga, Allen Park, Michigan, Court of Federal Claims No: 25-1283V

15. Patricia Stiltner, Huntington, West Virginia, Court of Federal Claims No: 25-1287V

16. Grace Newell, Falls Church, Virginia, Court of Federal Claims No: 25-1290V

17. Ray Turnipseed Jr., San Antonio, Texas, Court of Federal Claims No: 25-1294V

18. Kimberly Sparks, Washington, DC, Court of Federal Claims No: 25-1297V

19. Angel Monge-Mathuzima, Boscobel, Wisconsin, Court of Federal Claims No: 25-1302V

20. Joie McLeod, Alpharetta, Georgia, Court of Federal Claims No: 25-1305V

21. Miguel Leontiev, McLean, Virginia, Court of Federal Claims No: 25-1306V

22. Mary Schmitt, Charlotte, North Carolina, Court of Federal Claims No: 25-1307V

23. Patricia Gallagher, Turnersville, New Jersey, Court of Federal Claims No: 25-1309V

24. Steven Watkins, Boston, Massachusetts, Court of Federal Claims No: 25-1310V

25. Kathryn Harper, Corsica, Texas, Court of Federal Claims No: 25-1312V

26. Jennifer Spagnolo, Elmhurst, Illinois, Court of Federal Claims No: 25-1313V

27. Mustafa Ajami, Royal Oak, Michigan, Court of Federal Claims No: 25-1314V

28. Ryan Stone on behalf of C.S., Houston, Texas, Court of Federal Claims No: 25-1317V

29. Danette Verhovsek, Bradenton, Florida, Court of Federal Claims No: 25-1318V

30. Joe McWhirter Harrell, Raleigh, North Carolina, Court of Federal Claims No: 25-1320V

31. Jane R. Austermiller, Napoleon, Ohio, Court of Federal Claims No: 25-1321V

32. Mary Salyers, Cadillac, Michigan, Court of Federal Claims No: 25-1323V

33. James J. Davis, Milwaukee, Wisconsin, Court of Federal Claims No: 25-1324V

34. Ann-Marie Hurt, New York, New York, Court of Federal Claims No: 25-1325V

35. Timothy Yett, Newberg, Oregon, Court of Federal Claims No: 25-1327V

36. Andrew Diaz, Eau Claire, Wisconsin, Court of Federal Claims No: 25-1328V

37. Philip Dokepesi, Fayetteville, Georgia, Court of Federal Claims No: 25-1329V

38. Tami Guyer on behalf of the estate of Lucille Joann Kroft, Harrisburg, Pennsylvania, Court of Federal Claims No: 25-1331V

39. Julian J. Miller, Milwaukee, Wisconsin, Court of Federal Claims No: 25-1332V

40. Melissa Trepanier, Gorham, Maine, Court of Federal Claims No: 25-1334V

41. Vivian Shellmire-Archelle, Dallas, Georgia, Court of Federal Claims No: 25-1335V

42. Jessica Fermin on behalf of E.F., East Windsor, Connecticut, Court of Federal Claims No: 25-1341V

43. James Fleenor, Salem, Indiana, Court of Federal Claims No: 25-1342V

44. Emily Pasman on behalf of J.P., Washington, DC, Court of Federal Claims No: 25-1343V

45. Nicole Caton, Washington, DC, Court of Federal Claims No: 25-1347V

46. Wilma Jones, Chicago, Illinois, Court of Federal Claims No: 25-1348V

47. Katherine Gastian, Rio Rancho, New Mexico, Court of Federal Claims No: 25-1350V

48. Paulette Crawford, Washington, DC, Court of Federal Claims No: 25-1351V

49. John Lauer, Washington, DC, Court of Federal Claims No: 25-1352V

50. James Michael Jackson, Louisville, Kentucky, Court of Federal Claims No: 25-1354V

51. Correna Andrews, Boston, Massachusetts, Court of Federal Claims No: 25-1355V

52. Courtney Kyle, Greenville, South Carolina, Court of Federal Claims No: 25-1356V

53. Dana Brison, Chesterfield, Missouri, Court of Federal Claims No: 25-1357V

54. La Toya Phillips-Blakeney, Washington, DC, Court of Federal Claims No: 25-1360V

55. Bobby De Johnette, Washington, DC, Court of Federal Claims No: 25-1361V

56. Linda Dickerson, Buffalo, New York, Court of Federal Claims No: 25-1364V

57. Kathleen Lucas, Dresher, Pennsylvania, Court of Federal Claims No: 25-1366V

58. Dorothy Stokes, Evans, Georgia, Court of Federal Claims No: 25-1368V

59. David Rodgers, Philadelphia, Pennsylvania, Court of Federal Claims No: 25-1369V

60. Davonci S. Hennings, Milwaukee, Wisconsin, Court of Federal Claims No: 25-1371V

61. Shirley Dishman, Dresher, Pennsylvania, Court of Federal Claims No: 25-1373V

62. Vance Smith, Brookfield, Wisconsin, Court of Federal Claims No: 25-1375V

63. Danielle Zacharski, Dresher, Pennsylvania, Court of Federal Claims No: 25-1379V

64. Morris Mester, San Diego, California, Court of Federal Claims No: 25-1381V

65. Surveen Klein, Jefferson, Louisiana, Court of Federal Claims No: 25-1386V

66. Angetta Michelle Petit, Marlton, New Jersey, Court of Federal Claims No: 25-1387V

67. Delfina Garcia, Boston, Massachusetts, Court of Federal Claims No: 25-1388V

68. Robert Hetterich, Bradenton, Florida, Court of Federal Claims No: 25-1390V

69. Holly Pacelli, Apple Valley, California, Court of Federal Claims No: 25-1391V

70. Chukwuma Marcellus Eleodimuo, Los Angeles, California, Court of Federal Claims No: 25-1392V

71. Karen Steinig, Fishkill, New York, Court of Federal Claims No: 25-1393V

72. Casey B. Russell and Amanda N. Russell on behalf of E.G.R., Lewisburg, West Virginia, Court of Federal Claims No: 25-1396V

73. Susan Thompson, Chesapeake, Virginia, Court of Federal Claims No: 25-1400V

74. John Whyte Pennington, Greeley, Colorado, Court of Federal Claims No: 25-1401V

75. Catherine Nownes-Whitaker, Washington, DC, Court of Federal Claims No: 25-1402V

76. Marion Timmons, Wilmington, Delaware, Court of Federal Claims No: 25-1403V

77. Tene Griffin, Midlothian, Virginia, Court of Federal Claims No: 25-1404V

78. Allyson Kameid, Washington, DC, Court of Federal Claims No: 25-1405V

79. Nicole Fetterman, Washington, DC, Court of Federal Claims No: 25-1407V

80. Sian Haffner, Washington, DC, Court of Federal Claims No: 25-1408V

81. Andrea Daye, Washington, DC, Court of Federal Claims No: 25-1409V

82. Alisha Womack, Toms River, New Jersey, Court of Federal Claims No: 25-1412V

83. Rebecca J. Poynter, Greensboro, North Carolina, Court of Federal Claims No: 25-1415V

84. Rhett Whitley, Birmingham, Alabama, Court of Federal Claims No: 25-1416V

85. Amanda Lewis, Huntsville, Alabama, Court of Federal Claims No: 25-1419V

86. Maureen Wanty on behalf of the estate of Loretta Flanagan, Dresher, Pennsylvania, Court of Federal Claims No: 25-1421V

87. Kathleen Kormondy, Hilton Head, South Carolina, Court of Federal Claims No: 25-1422V

88. Perry Lavelle Washington, Clovis, California, Court of Federal Claims No: 25-1424V

89. Sejal Gowda, Athens, Georgia, Court of Federal Claims No: 25-1429V

90. Kimberly Hancock, Winston-Salem, North Carolina, Court of Federal Claims No: 25-1430V

91. Melissa Gaudet, Marrero, Louisiana, Court of Federal Claims No: 25-1434V

92. Sara Detweiler, Denver, Colorado, Court of Federal Claims No: 25-1435V

93. Christina Carter, Dresher, Pennsylvania, Court of Federal Claims No: 25-1436V

94. Nihaya Semrin, St. Louis Park, Minnesota, Court of Federal Claims No: 25-1437V

95. Kevin William Cassaday, Hope, Minnesota, Court of Federal Claims No: 25-1438V

96. Joan Budington, Yorkshire, New York, Court of Federal Claims No: 25-1440V

97. Peggy Dodds, Enterprise, Alabama, Court of Federal Claims No: 25-1445V

98. Christopher Walden, Olathe, Kansas, Court of Federal Claims No: 25-1446V

99. David Soetaert, Dresher, Pennsylvania, Court of Federal Claims No: 25-1447V

100. Shaylagh R. Dehney, Dracut, Massachusetts, Court of Federal Claims No: 25-1448V

101. Emma Nicole Hahesy, Brunswick, Maine, Court of Federal Claims No: 25-1449V

102. Richard Trala, Boston, Massachusetts, Court of Federal Claims No: 25-1450V

103. Nikolaus Raw, Boston, Massachusetts, Court of Federal Claims No: 25-1451V

104. Charles Terrio III, Cromwell, Connecticut, Court of Federal Claims No: 25-1452V

105. Lori LaQuerre, Essex, Vermont, Court of Federal Claims No: 25-1453V

106. Gregory Atwater, Madison, Wisconsin, Court of Federal Claims No: 25-1454V

[FR Doc. 2025-18696 Filed 9-25-25; 8:45 am]

BILLING CODE 4165-15-P